FEDERAL COMMUNICATIONS COMMISSION

Sunshine Act Meeting; Deletion of Agenda Items From October 31, 2005, Open Meeting

October 31, 2005.

The following items have been deleted from the list of Agenda items scheduled for consideration at the Monday, October 31, 2005, Open Meeting and previously listed in the Commission's Notice of Friday, October 21, 2005.

Item No. | Bureau | Subject
1 | Enforcement | Title: Review of the Emergency Alert System (DB Docket No. 04-296).
|  | Summary: The Commission will consider a First Report and Order and Further Notice of Proposed Rulemaking concerning the Emergency Alert System rules.
2. | Media | Title: Implementation of the Satellite Home Viewer Extension and Reauthorization Act of 2004 (MB Docket no. 05-49) and Implementation of Section 340 of the Communications Act.
|  | Summary: The Commission will consider a Report and Order to adopt rules for satellite carriage of “significantly viewed” television stations pursuant to the Satellite Home Viewer Extension and Reauthorization Act (SHVERA).

Federal Communications Commisission.
William F. Caton,
Deputy Secretary.

[FR Doc. 05-22054 Filed 11-1-05; 1:53 p.m.]

BILLING CODE 6712-01-P